DEPARTMENT OF HEALTH AND HUMAN SERVICES

National Institutes of Health

National Institute of Environmental Health Sciences; Amended Notice of Meeting

Notice is hereby given of a change in the meeting of the National Institute of Environmental Health Sciences Special Emphasis Panel, July 28, 2004, 1:30 p.m. to July 28, 2004, 3:30 p.m., NIEHS/National Institutes of Health, Building 4401, East Campus, 79 T.W. Alexander Drive, 122, Research Triangle Park, NC, 27709 which was published in the Federal Register on June 4, 2004, FR 69 31617-31618.

The meeting will be held on July 29, 2004 instead of July 28, 2004. Time and location remain the same. The meeting is closed to the public.

Dated: June 22, 2004.
LaVerne Y. Stringfield,
Director, Office of Federal Advisory Committee Policy.

[FR Doc. 04-14735 Filed 6-29-04; 8:45 am]

BILLING CODE 4140-01-M